DEPARTMENT OF THE INTERIOR

Bureau of Land Management

[WY-100-1010-01]

Notice of Emergency Temporary Closure for All Motorized Vehicles on Public Land in the Silver Creek Ridge Area, Sublette County, WY

AGENCY: Bureau of Land Management, Interior.

ACTION: Notice of Temporary Closure.

SUMMARY: In response to a request from the Wyoming Game & Fish Department (WYG&F), a temporary closure to all motorized vehicles, including over-the-snow vehicles will be in effect starting November 19, 2001, through January 31, 2002 for the Silver Creek Ridge. A sign at the second irrigation ditch crossing 1.6 miles east of State Route 353 establishes the point beyond which the temporary closure is in effect. The purpose of this closure is to allow elk to migrate free of motorized disturbance through this area. This will assist the WYG&F in decreasing elk depredation on stored agricultural crops and meet WYG&F management objectives. This temporary closure will allow the WYG&F and BLM to assess whether the road closure was effective in meeting the management objectives and reducing of elk depredation on stored agricultural crops.

EFFECTIVE DATES: This closure will be effective November 19, 2001, through January 31, 2002. This closure will remain in effect unless modified or rescinded by the Authorized Officer, (BLM Pinedale Field Manager).

FOR FURTHER INFORMATION CONTACT: Bill Wadsworth, Realty Specialist or Priscilla Mecham, Field Manager, Pinedale Field Office, P.O. Box 768, Pinedale, Wyoming 82941. Telephone (307)-367-5300.

SUPPLEMENTARY INFORMATION: The objective for closure of the Silver Creek Ridge area is to improve the elk management objectives in the area and reduce depredation of stored agricultural crops on adjoining ranches. The WYG&F have been working with adjoining land owners to allow controlled access onto private lands. The adjoining land owners have agreed to allow access onto their private land to hunters only if the temporary closure is placed on the BLM lands. The temporary closure will close most of the Silver Creek Ridge area to all motorized use, including over-the-snow vehicles from November 19, 2001, through January 31, 2002. The WYG&F feels that motorized vehicle use can disrupt the daily activity patterns of the elk thus limiting the harvest. By restricting motorized vehicle use, the elk will move more freely in the Silver Creek Ridge area, and remain undisturbed by motorized vehicles. This closure will also help by reducing resource damage that is caused by motorized vehicle use off-road.

This temporary use closure applies to public lands in Sublette County, Wyoming, located approximately 8 miles east of Boulder, Wyoming. The designation affects all public lands starting at T. 32 N., R. 106 W., Section 24, E½, Sixth Principle Meridian on the Silver Creek Ridge area. Motorized vehicle use designations apply to all motorized vehicles with the exceptions of: (1) Any fire, military, emergency, or law enforcement vehicle when used for emergency purposes or any combat support vehicle when used for national defense purposes; (2) any vehicle whose use is expressly authorized by the BLM under permit, lease, license, or contract; and (3) any government vehicle on official business.

Authority for closure orders is provided under 43 CFR subpart 8364.1. Violations of this closure are punishable by a fine not to exceed $1,000 and/or imprisonment not to exceed 12 months.

Dated: September 7, 2001.
Eldon L. Allison, Jr.,
Acting Pinedale Field Manager.

[FR Doc. 01-24447 Filed 9-28-01; 8:45 am]

BILLING CODE 4310-JB-P